DEPARTMENT OF HOUSING AND URBAN DEVELOPMENT

[Docket No. FR-7001-N-58]

30-Day Notice of Proposed Information Collection: Housing Trust Fund (HTF) Program

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: December 26, 2018.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Anna P. Guido, Reports Management Officer, QMAC, Department of Housing and Urban Development, 451 7th Street SW, Washington, DC 20410; email Anna P. Guido at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A. The Federal Register notice that solicited public comment on the information collection for a period of 60 days was published on July 5, 2018 at 83 FR 31413.

A. Overview of Information Collection

Title of Information Collection: Housing Trust Fund (HTF) Program.

OMB Approval Number: 2506-New.

Type of Request: New collection.

Form Number: SF-1199A, HUD-27055, SF-424, SF-425.

Description of the need for the information and proposed use: The information collected through HUD's Integrated Disbursement and Information System (IDIS) (24 CFR 93.402) is used by HUD Field Offices, HUD Headquarters, and HTF Grantees. The information on program funds committed and disbursed is used by HUD to track grantee performance and to determine compliance with the statutory 24-month commitment deadline and the regulatory 5-year expenditure deadline (§ 93.400(d)). The project-specific property, tenant, owner, and financial data is used to make program management decisions about how well program participants are achieving the statutory objectives of the HTF Program. Program management reports are generated by IDIS to provide data on the status of program participants' commitment and disbursement of HTF funds. These reports are provided to HUD staff as well as to HTF grantees.

Financial, project, tenant and owner documentation are used to determine compliance with HTF Program cost limits (§ 93.404), eligible activities (§ 93.200), and eligible costs (§ 93.201). Other information collected under Subpart H (Other Federal Requirements) is primarily intended for local program management and is only viewed by HUD during routine monitoring visits. The written agreement with the owner for long-term obligation (§ 93.404(b)) and tenant protections (§ 93.303) are required to ensure that the property owner complies with these important elements of the HTF Program and are also reviewed by HUD during monitoring visits. HUD reviews all other data collection requirements during monitoring to assure compliance with the requirements of the Act and other related laws and authorities.

HUD tracks grantee performance and compliance with the requirements of 24 CFR parts 91 and 93. Grantees use the required information in the execution of their program, and to gauge their own performance in relation to stated goals.

Estimated Number of Respondents/Estimated Number of Responses:

Regulatory section | Information collection | Number of respondents | Frequency of response | Responses per annum | Burden hour per response | Annual burden hours | Hourly cost per response | Annual cost
§ 93.100(a) | Notification of intent to participate | 56.00 | 1.00 | 56.00 | 4.00 | 224.00 | $39.07 | $8,751.68
2 CFR 200.200 | Form SF-424 Family | 56.00 | 1.00 | 56.00 | 9.00 | 504.00 | 39.07 | 19,691.28
2 CFR 200.200 | Form SF-425 | 56.00 | 1.00 | 56.00 | 1.50 | 84.00 | 39.07 | 3,281.88
31 U.S.C. 3512 | HUD Form 27055 | 56.00 | 1.00 | 56.00 | 0.50 | 28.00 | 39.07 | 1,093.96
§ 93.100(b) | Submission of Consolidated Plan | 56.00 | 0.20 | 11.20 | 40.00 | 448.00 | 39.07 | 17,503.36
§ 91.220 | Action Plan | 56.00 | 1.00 | 56.00 | 10.00 | 560.00 | 39.07 | 21,879.20
§ 93.101 | Distribution of assistance | 56.00 | 1.00 | 56.00 | 4.00 | 224.00 | 39.07 | 8,751.68
§ 93.150(a) | Site and Neighborhood Standards | 56.00 | 1.00 | 56.00 | 4.00 | 224.00 | 39.07 | 8,751.68
§ 93.150(b) | New rental housing site and neighborhood requirements | 56.00 | 1.00 | 56.00 | 5.00 | 280.00 | 39.07 | 10,939.60
§ 93.200(b) | Establishment of terms of assistance | 56.00 | 1.00 | 56.00 | 4.00 | 224.00 | 39.07 | 8,751.68
§ 93.200(d) | Terminated projects | 1.00 | 1.00 | 1.00 | 20.00 | 20.00 | 39.07 | 781.40
§ 93.201(b)(2) | Establish refinancing guidelines | 56.00 | 1.00 | 56.00 | 4.00 | 224.00 | 39.07 | 8,751.68
§ 93.300(a) | Establish maximum per-unit development subsidy amount | 56.00 | 1.00 | 56.00 | 4.00 | 224.00 | 39.07 | 8,751.68
§ 93.300(b) | Underwriting and subsidy layering | 168.00 | 1.00 | 168.00 | 4.00 | 672.00 | 39.07 | 26,255.04
§ 93.301(a) | Property standards—New construction | 56.00 | 1.00 | 56.00 | 3.00 | 168.00 | 39.07 | 6,563.76
§ 93.302(b) | Establish rent limitations | 56.00 | 1.00 | 56.00 | 4.00 | 224.00 | 39.07 | 8,751.68
§ 93.302(c) | Establish utility allowance | 56.00 | 1.00 | 56.00 | 4.00 | 224.00 | 39.07 | 8,751.68
§ 93.302(d)(1) | Establish affordability requirements | 56.00 | 1.00 | 56.00 | 4.00 | 224.00 | 39.07 | 8,751.68
§ 93.302(d)(3) | Establish preemptive procedures before foreclosure | 56.00 | 1.00 | 56.00 | 4.00 | 224.00 | 39.07 | 8,751.68
§ 93.302(e)(1) | Initial income determination | 1,821.00 | 1.00 | 1,821.00 | 1.00 | 1,821.00 | 39.07 | 71,146.47
§ 93.302(e)(1) | Annual income determination | 5,600.00 | 1.00 | 5,600.00 | 0.25 | 1,400.00 | 39.07 | 54,698.00
§ 93.304(f) | Establish resale or recapture provisions | 0.00 | 1.00 | 0.00 | 5.00 | 0.00 | 39.07 | 0.00
§ 93.304(m)(1) | Underwriting standards for homeownership assistance | 0.00 | 1.00 | 0.00 | 6.00 | 0.00 | 39.07 | 0.00
§ 93.304(m)(2) | Establish policies for anti-predatory lending | 0.00 | 1.00 | 0.00 | 4.00 | 0.00 | 39.07 | 0.00
§ 93.304(m)(3) | Establish reasonable refinancing for subordinated HTF loans | 0.00 | 1.00 | 0.00 | 4.00 | 0.00 | 39.07 | 0.00
§ 93.305(1) | Establish modest housing guidelines | 0.00 | 1.00 | 0.00 | 5.00 | 0.00 | 39.07 | 0.00
§ 93.350(a) | Nondiscrimination and equal opportunity procedures | 56.00 | 1.00 | 56.00 | 8.00 | 448.00 | 39.07 | 17,503.36
§ 93.350(b)(1) | Affirmative marketing procedures | 56.00 | 1.00 | 56.00 | 10.00 | 560.00 | 39.07 | 21,879.20
§ 93.351 | Lead-based paint | 56.00 | 1.00 | 56.00 | 1.00 | 56.00 | 39.07 | 2,187.92
§ 93.352 | Displacement, relocation, and acquisition procedures | 56.00 | 1.00 | 56.00 | 4.00 | 224.00 | 39.07 | 8,751.68
§ 93.353 | Conflict of interest adjudication | 2.00 | 1.00 | 2.00 | 4.00 | 8.00 | 39.07 | 312.56
§ 93.354 | Funding Accountability and Transparency Act | 56.00 | 12.00 | 672.00 | 1.00 | 672.00 | 39.07 | 26,255.04
§ 93.356(b) | VAWA notification requirements | 56.00 | 1.00 | 56.00 | 4.00 | 224.00 | 39.07 | 8,751.68
§ 93.356(d) | VAWA lease term/addendum | 56.00 | 1.00 | 56.00 | 4.00 | 224.00 | 39.07 | 8,751.68
§ 93.356(f) | VAWA Emergency transfer plan | 56.00 | 1.00 | 56.00 | 4.00 | 224.00 | 39.07 | 8,751.68
§ 93.402(b)(1) | IDIS—Project set-up | 168.00 | 1.00 | 168.00 | 1.00 | 168.00 | 39.07 | 6,563.76
§ 93.402(c)(1) | IDIS—HTF drawdowns | 168.00 | 1.00 | 168.00 | 1.00 | 168.00 | 39.07 | 6,563.76
§ 93.402(d)(1) | IDIS—Project completion | 168.00 | 1.00 | 168.00 | 1.00 | 168.00 | 39.07 | 6,563.76
§ 93.403(a) | Program income administration | 56.00 | 1.00 | 56.00 | 4.00 | 224.00 | 39.07 | 8,751.68
§ 93.403(b)(1) | Repayment for ineligible activities | 2.00 | 1.00 | 2.00 | 5.00 | 10.00 | 39.07 | 390.70
§ 93.404(b) | Written agreement | 168.00 | 1.00 | 168.00 | 2.00 | 336.00 | 39.07 | 13,127.52
§ 93.404(d)(1) | Project completion inspection | 168.00 | 1.00 | 168.00 | 2.00 | 336.00 | 39.07 | 13,127.52
§ 93.404(d)(2)(i) | Onsite inspection upon completion | 560.00 | 1.00 | 560.00 | 2.00 | 1,120.00 | 39.07 | 43,758.40
§ 3.404(d)(2)(ii) | Onsite inspections post completion | 504.00 | 1.00 | 504.00 | 2.00 | 1,008.00 | 39.07 | 39,382.56
§ 3.404(d)(2)(iv) | Project owner annual certification | 168.00 | 1.00 | 168.00 | 2.00 | 336.00 | 39.07 | 13,127.52
§ 93.404(e) | Annual financial oversight of 10 or more units | 168.00 | 1.00 | 168.00 | 2.00 | 336.00 | 39.07 | 13,127.52
§ 93.405 | Uniform administrative requirements | 56.00 | 1.00 | 56.00 | 4.00 | 224.00 | 39.07 | 8,751.68
§ 93.406(a) | Annual CFR 200 audit | 56.00 | 1.00 | 56.00 | 10.00 | 560.00 | 39.07 | 21,879.20
§ 93.407(a)(1) | Program recordkeeping | 56.00 | 1.00 | 56.00 | 8.00 | 448.00 | 39.07 | 17,503.36
§ 93.407(a)(2) | Project recordkeeping | 560.00 | 1.00 | 560.00 | 2.00 | 1,120.00 | 39.07 | 43,758.40
§ 93.407(a)(3) | Financial recordkeeping | 56.00 | 12.00 | 672.00 | 2.00 | 1,344.00 | 39.07 | 52,510.08
§ 93.407(a)(4) | Program administration records | 56.00 | 12.00 | 672.00 | 8.00 | 5,376.00 | 39.07 | 210,040.32
§ 93.407(a)(5) | Records concerning other Federal requirements | 56.00 | 1.00 | 56.00 | 10.00 | 560.00 | 39.07 | 21,879.20
§ 93.408 | Performance reports | 56.00 | 12.00 | 672.00 | 2.50 | 1,680.00 | 39.07 | 65,637.60
§ 93.451 | Annual performance reviews | 56.00 | 1.00 | 56.00 | 8.00 | 448.00 | 39.07 | 17,503.36
Total |  | 12,298.00 |  | 14,717.20 |  | 26,835.00 |  | 1,048,443.45
Total cost: 26,835.00 hours * $39.07 (Hourly rate for GS12).

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: November 16, 2018.
Anna P. Guido,
Department Reports Management Officer, Office of the Chief Information Officer.

[FR Doc. 2018-25655 Filed 11-23-18; 8:45 am]

BILLING CODE 4210-67-P